NUCLEAR REGULATORY COMMISSION

[Docket No. 30-36974; NRC-2010-0374]

Notice of Availability of Final Supplement to the Environmental Assessment for the Proposed Pa'ina Hawaii, LLC Irradiator in Honolulu, HI

AGENCY: Nuclear Regulatory Commission.

ACTION: Notice of availability.

SUMMARY: Notice is hereby given that the U.S. Nuclear Regulatory Commission (NRC) has published a Final Supplement to the Environmental Assessment (EA) for the irradiator proposed by Pa'ina Hawaii, LLC (Pa'ina). On June 23, 2005, Pa'ina submitted an application to NRC requesting a license to possess and use byproduct material in connection with a proposed underwater irradiator. NRC completed the Final EA and Finding of No Significant Impact for this action on August 10, 2007, and subsequently issued a license to Pa'ina on August 17, 2007. The license authorizes Pa'ina to possess and use byproduct material (sealed sources) in a commercial underwater irradiator to be located adjacent to Honolulu International Airport on Palekona Street near Lagoon Drive. NRC is issuing this Final Supplement to the EA in response to a decision of the Atomic Safety and Licensing Board (Board) from the NRC's Atomic Safety and Licensing Board Panel. As directed by the Board, this Final Supplement addresses the following three areas: (1) Environmental impacts of accidents that might occur during the transport of cobalt-60 sources to and from Pa'ina's irradiator, (2) electron-beam technology as an alternative to cobalt-60 irradiation, and (3) alternative sites for Pa'ina's irradiator.

In the first area identified by the Board, the staff finds that accidents occurring during the transport of cobalt-60 to or from Pa'ina's proposed irradiator will not cause a significant impact to the environment. This is due primarily to the very low likelihood cobalt-60 will be released from a shipping package. The low likelihood of release is due to several factors, including the small number of cobalt-60 shipments to Pa'ina's irradiator and the stringent safety requirements for the design of cobalt-60 shipping packages. In the second area identified by the Board, the staff finds that the environmental impacts of an electron-beam irradiator will be small for each resource area. The staff also finds that the impacts will not be significantly different than those associated with construction and operation of a cobalt-60 irradiator. In the third area identified by the Board, the staff finds that impacts associated with construction and operation of a cobalt-60 irradiator at alternative sites will be small and will not be significantly different than those at the proposed site. In particular, the staff finds that aircraft crashes involving the alternative sites will have no significant environmental impacts. The staff also finds that environmental impacts from earthquakes, tsunamis, and hurricanes at the alternative locations will be small.

Publicly available documents created or received at the NRC, including the Final Supplement to the EA, the August 10, 2007 EA, and the Pa'ina license and supporting documentation, are available electronically at the NRC's Electronic Reading Room at http://www.nrc.gov/reading-rm/adams.html. From this site, the public can access the NRC's Agencywide Document Access and Management System (ADAMS), which provides text and image files of NRC's public documents. The ADAMS accession numbers for the Final Supplement to the EA and related documents are provided in the table below:

Document | ADAMS Accession No.
2005 Materials License Application | ML051920106
2007 Final EA | ML071150121
2010 Draft Supplement to the EA | ML103220072
Comment Letter 1 of 5 | ML103470076
Comment Letter 2 of 5 | ML110100329
Comment Letter 3 of 5 | ML110110256
Comment Letter 4 of 5 | ML110130222
Comment Letter 5 of 5 | ML110470273
2011 Final Supplement to the EA | ML110390325

If you do not have access to ADAMS or if there are problems in accessing the documents located in ADAMS, contact the NRC Public Document Room (PDR) reference staff at 1-800-397-4209, 301-415-4737 or by e-mail to pdr.resource@nrc.gov.

The public may examine and have copied for a fee publicly available documents at the NRC's PDR, Room O1 F21, One White Flint North, 11555 Rockville Pike, Rockville, Maryland. In addition, documents relating to the administrative litigation associated with Pa'ina's application may be found in the Electronic Hearing Docket maintained by the NRC's Office of the Secretary at http://ehd1.nrc.gov/EHD/.

FOR FURTHER INFORMATION CONTACT: Johari Moore, Project Manager, Environmental Review Branch A, Division of Waste Management and Environmental Protection, Office of Federal and State Materials and Environmental Management Programs, U.S. Nuclear Regulatory Commission, Rockville, Maryland 20852. Telephone: 301-415-7694; fax number: 301-415-5369; e-mail: Johari.Moore@nrc.gov.

Dated at Rockville, Maryland, this 1st day of March 2011.
For the Nuclear Regulatory Commission.
Diana Diaz-Toro,
Acting Deputy Director, Environmental Protection and Performance Assessment Directorate, Division of Waste Management and Environmental Protection, Office of Federal and State Materials and Environmental Management Programs.

[FR Doc. 2011-5058 Filed 3-4-11; 8:45 am]

BILLING CODE 7590-01-P